DEPARTMENT OF ENERGY

Energy Information Administration

Agency Information Collection Extension With Changes

AGENCY: U.S. Energy Information Administration (EIA), Department of Energy.

ACTION: Notice and request for OMB review and comment.

SUMMARY: EIA has submitted an information collection request to OMB for extension under the provisions of the Paperwork Reduction Act of 1995. The information collection requests a three-year extension with changes of its Petroleum Marketing Program, OMB Control Number 1905-0174. The Petroleum Marketing Program collects and publishes data on the nature, structure, and efficiency of petroleum markets at national, regional, and state levels. Through integration of the program's ten surveys, EIA monitors petroleum volumes and prices as the commodity moves through various stages such as the importation of raw material, physical and financial transfer of material off extraction sites, refinement to finished products, transfer/distribution from refiners to retail outlets, and sales to ultimate consumers.

DATES: Comments regarding this proposed information collection must be received on or before August 28, 2017. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503. And to Ms. Tammy Heppner, U.S. Department of Energy, U.S. Energy Information Administration, EI-25, 1000 Independence Avenue SW., Washington, DC 20585, tammy.heppner@eia.gov.

FOR FURTHER INFORMATION CONTACT: Requests for additional information or copies of the information collection instrument and instructions should be directed to Tammy Heppner, tammy.heppner@eia.gov, https://www.eia.gov/survey/notice/marketing2017.cfm.

SUPPLEMENTARY INFORMATION: This information collection request contains:

(1) OMB No.: 1905-0174;

(2) Information Collection Request Title: Petroleum Marketing Program. The surveys included in this information collection request are:

• EIA-14, Refiners' Monthly Cost Report

• EIA-182, Domestic Crude Oil First Purchase Report

• EIA-782A, Refiners'/Gas Plant Operators' Monthly Petroleum Product Sales Report

• EIA-782C, Monthly Report of Prime Supplier Sales of Petroleum Products Sold For Local Consumption

• EIA-821, Annual Fuel Oil and Kerosene Sales Report

• EIA-856, Monthly Foreign Crude Oil Acquisition Report

• EIA-863, Petroleum Product Sales Identification Survey

• EIA-877, Winter Heating Fuels Telephone Survey

• EIA-878, Motor Gasoline Price Survey

• EIA-888, On-Highway Diesel Fuel Price Survey

(3) Type of Request: Three-year extension with changes;

(4) Purpose: The purpose of the agency's petroleum product price, supply, and market distribution information collection is to provide data pertaining to the nature, structure, and operating efficiency of petroleum markets. The surveys in this petroleum program collect volumetric and price information needed to determine supply and demand for crude oil and refined petroleum products.

These data are published by EIA on its Web site, http://www.eia.gov, as well as in publications such as the Monthly Energy Review (http://www.eia.gov/totalenergy/data/monthly/), Annual Energy Review (http://www.eia.gov/totalenergy/data/annual/), Petroleum Marketing Monthly (http://www.eia.gov/oil_gas/petroleum/data_publications/petroleum_marketing_monthly/pmm.html), Weekly Petroleum Status Report (http://www.eia.gov/oil_gas/petroleum/data_publications/weekly_petroleum_status_report/wpsr.html), and the International Energy Outlook (http://www.eia.gov/forecasts/ieo/).

(4a) Proposed Changes to Information Collection:

Form EIA-182: Domestic Crude Oil First Purchase Report

EIA is replacing “North Dakota Sweet” crude stream with “North Dakota Bakken” crude stream. This is due to increased crude oil production of the Bakken crude steam, and will provide accurate price estimates for the domestic crude stream. “North Dakota Sweet” purchase information will continue to be collected in the “Other North Dakota,” category.

EIA-877: Winter Heating Fuels Telephone Survey

EIA is adding annual sales volumes of residential heating oil for statistical estimation purposes. The addition of the annual heating oil sales volumes improves the accuracy of price estimates because it provides a more accurate method to calculate a weighted average point-in-time price.

Form EIA-878: Motor Gasoline Price Survey

EIA is collecting annual sales volumes of motor gasoline of regular, mid, and premium grades on a triennial basis. The survey will collect this information from corporate offices of suppliers of whole sale and retail gasoline, hypermarkets, and individual station owners. EIA will use annual sales volumes of motor gasoline to determine the measure of size and weights for the outlets sampled. EIA is also updating its frame of retail gasoline outlets and reselecting a sample of retail outlets utilizing a new sample design. The new sample will replace the current sample that reports on Form EIA-878.

(5) Annual Estimated Number of Respondents: 10,578

(6) Annual Estimated Number of Total Responses: 125,490

(7) Annual Estimated Number of Burden Hours: 48,690

(8) Annual Estimated Reporting and Recordkeeping Cost Burden: $3,775,000. The cost of the burden hours is estimated to be $3,586,506 (48,690 burden hours times $73.66 per hour). EIA estimates that there are no additional costs to respondents associated with the surveys other than the costs associated with the burden hours.

Statutory Authority: Section 13(b) of the Federal Energy Administration Act of 1974, Pub. L. 93-275, codified as 15 U.S. C. 772(b) and the DOE Organization Act of 1977, Pub. L. 95-91, codified at 42 U.S.C. 7101 et seq.

Issued in Washington, DC, on July 24, 2017.
Nanda Srinivasan,
Director, Office of Survey Development and Statistical Integration, Energy Information Administration.

[FR Doc. 2017-15845 Filed 7-26-17; 8:45 am]

BILLING CODE 6450-01-P